DEPARTMENT OF HEALTH AND HUMAN SERVICES

Health Resources and Services Administration

Agency Information Collection Activities: Submission to OMB for Review and Approval; Public Comment Request; Rapid Uptake of Disseminated Interventions Evaluation, OMB No. 0906-xxxx

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than November 20, 2023.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: Rapid Uptake of Disseminated Interventions (RUDI) Evaluation, OMB No. 0906-xxxx—New.

Abstract: HRSA dedicated significant resources and effort to developing novel intervention strategies aimed at eliminating disparities and improving HIV-related health outcomes for people with HIV. HRSA encourages and supports Ryan White HIV/AIDS Program (RWHAP) providers to implement interventions developed through its RWHAP Part F Special Projects of National Significance program and technical assistance initiatives that have been found to be effective, with adaptations for priority populations served as applicable. HRSA disseminates its RWHAP Part F Special Projects of National Significance and technical assistance initiative resources and products across a variety of dissemination channels, hoping to reach a maximum number of RWHAP recipients and subrecipients for whom these resources may meet an important need. This mixed-methods RUDI evaluation will use a web-based survey and virtual site visits to collect information from RWHAP recipients and subrecipients on the uptake, utility, and efficacy of the resources and products HRSA disseminates; the effectiveness of its dissemination processes; and the reach of its dissemination channels. HRSA will use the information to identify opportunities for strengthening its dissemination channels and resources to improve care and health outcomes for program participants. A 60-day notice was published in the Federal Register on July 12, 2023, Vol. 88, No. 132, pp. 44371-44373 (88 FR 44371). HRSA received no comments.

Need and Proposed Use of the Information: Currently, HRSA does not systematically gather information about the resources accessed by RWHAP providers, RWHAP recipients, or AIDS Education and Training Center (AETC) staff and the extent to which they use those resources to inform implementation of interventions.

The mixed-methods RUDI evaluation will help HRSA systematically assess and understand (1) how, where, and why recipients of RWHAP funding access and use its disseminated resources and products; and (2) the utility and effectiveness of the disseminated resources and products in caring for and treating people with HIV. HRSA will use the findings from the RUDI evaluation to develop strategies to maximize the uptake and impact of its disseminated resources and products, contributing to ending the HIV epidemic in the United States.

Likely Respondents: The mixed-methods RUDI evaluation includes a web-based survey of all RWHAP recipients and subrecipients nationally, individual and small group interviews with a sample of RWHAP recipients, virtual site visits with a sample of RWHAP providers, and individual interviews with all AETCs. The RUDI web-based survey design includes two versions of the survey that will be administered to non-overlapping respondents—the RUDI Recipients Survey for RWHAP Part A and B recipient administrative entities—and the RUDI Providers Survey for Part A and B subrecipients and Part C, D, and F recipients who provide direct care. Both versions ask about respondents' use of HRSA-disseminated resources, how they were helpful, what could be improved, and reasons for non-use where applicable. In addition, the RUDI Recipients Survey asks about the recipients' role in guiding their subrecipients to needed resources, and the RUDI Providers Survey asks about the providers' experience implementing interventions for which they used the resources. Both surveys are designed to be followed up with additional sets of interviews with a sample of the survey respondents to provide deeper understanding of their experience to support development of actionable recommendations pertaining to dissemination. Virtual site visits to RWHAP providers include interviews with an average of three staff within each provider organization that were part of an intervention implementation with assistance from HRSA resources. Individual interviews for Part A and B recipient administrative entities and AETCs will generate a complete picture of how those organizations use HRSA resources and how the resources or their dissemination could be improved for the future, especially when considered together with the survey responses and virtual site visit data from the RWHAP providers.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Respondent | Data collection | Number of respondents (RWHAP sites) | Number of responses per respondent | Total responses | Average burden per response (in hours) | Total burden hours
RWHAP recipients | RUDI—Recipient Survey | 56 | 1 | 56 | 0.33 | 18.48
RWHAP provider | RUDI—Provider Survey | 1,066 | 1 | 1,066 | 0.33 | 351.78
RWHAP recipients | Interviews | 20 | 3 | 60 | 0.75 | 45.00
RWHAP provider | Virtual site visit interviews | 40 | 3 | 120 | 1.00 | 120.00
AETC providers | Interviews | 8 | 1 | 8 | 1.00 | 8.00
|  | 1,190 |  | 1,310 |  | 543.26

Maria G. Button,
Director, Executive Secretariat.

[FR Doc. 2023-23108 Filed 10-18-23; 8:45 am]

BILLING CODE 4165-15-P